FEDERAL TRADE COMMISSION

16 CFR Part 4

Appearances Before the Commission; Restrictions as to Former Members and Employees

AGENCY: Federal Trade Commission (FTC).

ACTION: Final rule.

SUMMARY: The Commission is amending its rule governing the appearances of former members and employees, Rule 4.1(b), to make it consistent with President Clinton's December 28, 2000 revocation of Executive Order 12834 (“Ethics Commitments by Executive Branch Appointees”).

EFFECTIVE DATE: These amendments are effective March 7, 2001.

FOR FURTHER INFORMATION CONTACT: Ira S. Kaye, 202-326-2426, or Shira Pavis Minton, 202-326-2479, Attorneys, Office of the General Counsel, FTC, 600 Pennsylvania Avenue, NW., Washington, DC 20580.

SUPPLEMENTARY INFORMATION: The Commission is deleting the note following section (b)(1)(iv) of Commission Rule 4.1, 16 CFR 4.1, which currently states that former Commissioners and certain other “senior” employees may be subject to Executive Order 12834. That order formerly required that certain Executive Branch officials appointed on or after January 20, 1993, sign a pledge making particular post-employment ethics commitments. This amendment is necessary in order to reflect that, by Executive Order 13184 of December 28, 2000, President Clinton revoked Executive Order 12834.

This rule amendment relates solely to agency practice and, thus, is not subject to the notice and comment requirements of the Administrative Procedure Act, 5 U.S.C. 553(a)(2), or to the requirements of the Regulatory Flexibility Act, 5 U.S.C. 601(2).

List of Subjects in 16 CFR part 4

Administrative practice and procedure.

For the reasons set forth in the preamble, the Federal Trade Commission amends Title 16, chapter I, subchapter A, of the Code of Federal Regulations as follows:

PART 4—MISCELLANEOUS RULES

1. The authority citation for part 4 continues to read as follows:

Authority: Sec. 6, 38 Stat. 721; 15 U.S.C. 46.

§ 4.1 [Amended]

2. Section 4.1 is amended by removing the note that follows paragraph (b)(1)(iv).

By direction of the Commission.
Donald S. Clark,
Secretary.

[FR Doc. 01-5507 Filed 3-6-01; 8:45 am]

BILLING CODE 6750-01-M